DEPARTMENT OF TRANSPORTATION

Federal Railroad Administration

[Docket Number FRA-2020-0023]

Notice of Petition for Extension of Waiver of Compliance

AGENCY: Federal Railroad Administration (FRA), Department of Transportation (DOT).

ACTION: Notice.

SUMMARY: This document provides the public notice that by letter dated December 5, 2024, Railtown 1897 State Historic Park (RT) petitioned FRA for an extension of relief from certain regulations concerning stenciling and reflectorization of rail cars.

DATES: FRA must receive comments on the petition by May 5, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: John Brahaney, Railroad Safety Specialist, FRA Motive Power & Equipment Division, telephone: 202-493-6134, email: john.brahaney@dot.gov.

SUPPLEMENTARY INFORMATION: Under part 211 of title 49 Code of Federal Regulations (CFR), this document provides the public notice that by letter dated December 5, 2024, RT petitioned FRA for an extension of a special approval pursuant to 49 CFR part 215 (Railroad Freight Car Safety Standards), and to extend a waiver of compliance from certain provisions of the Federal railroad safety regulations contained at 49 CFR parts 215 and 224 (Reflectorization of Rail Freight Rolling Stock). The relevant Docket Number is FRA-2020-0023.

Specifically, RT requests to extend the previous special approval pursuant to 49 CFR 215.203, Restricted cars, in this docket for 2 cars (WP 17005 and SRR 323), which are more than 50 years from the dates of original construction. RT also seeks to extend relief from § 215.303, Stenciling of restricted cars, and part 224, to use the cars “for film and photo work” on special trains. In its petition, RT explains that the cars will not be interchanged or used in revenue freight service and that the relief will “contribute to a more positive interpretive experience for [RT's] visitors.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 5, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-03622 Filed 3-5-25; 8:45 am]

BILLING CODE 4910-06-P